DEPARTMENT OF DEFENSE

Office of the Secretary

[Docket ID: DoD-2024-OS-0114]

Submission for OMB Review; Comment Request

AGENCY: Office of the Under Secretary of Defense for Personnel and Readiness (OUSD(P&R)), Department of Defense (DoD).

ACTION: 30-Day information collection notice.

SUMMARY: The DoD has submitted to the Office of Management and Budget (OMB) for clearance the following proposal for collection of information under the provisions of the Paperwork Reduction Act.

DATES: Consideration will be given to all comments received by February 10, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: On-Site Installation Evaluations; OMB Control Number 0704-0610.

Type of Request: Revision.

Number of Respondents: 5,000.

Responses per Respondent: 1.

Annual Responses: 5,000.

Average Burden per Response: .8166 hours.

Annual Burden Hours: 4,083 hours.

Needs and Uses: These information collections continue to support a high-visibility requirement directed in Secretary of Defense Memorandum, “Immediate Actions to Counter Sexual Assault and Harassment and the Establishment of a 90-Day Independent Review Commission on Sexual Assault in the Military,” February 26, 2021. Immediate Action 2 directs the Under Secretary of Defense for Personnel and Readiness (USD(P&R)) to develop a plan of action and milestones to conduct high risk installation evaluations. Memorandum “Plan of Action and Milestones for High-Risk Installation Evaluations,” March 30, 2021, USD(P&R) approved the plan of action and milestones. The result of the data collection will be a series of ratings for each installation to characterize the maturity of prevention at each installation (i.e., how consistently prevention is prioritized, how consistently people are prepared to conduct needed prevention, and how consistently prevention is done well).

Affected Public: Individuals or households.

Frequency: On occasion.

Respondent's Obligation: Voluntary.

DOD Clearance Officer: Mr. Reginald Lucas.

Dated: January 3, 2025.
Aaron T. Siegel,
Alternate OSD Federal Register Liaison Officer, Department of Defense.

[FR Doc. 2025-00289 Filed 1-8-25; 8:45 am]

BILLING CODE 6001-FR-P